FEDERAL COMMUNICATIONS COMMISSION

Notice of Public Information Collections Approved by the Office of Management and Budget (OMB)

April 28, 2010.

SUMMARY: The Federal Communications Commission (FCC) has received Office of Management and Budget (OMB) approval for the following public information collections pursuant to the Paperwork Reduction Act of 1995 (44 U.S.C. 3501-3520). An agency may not conduct or sponsor a collection of information unless it displays a currently valid OMB control number, and no person is required to respond to a collection of information unless it displays a currently valid OMB control number. Comments concerning the accuracy of the burden estimates and any suggestions for reducing the burden should be directed to the person listed in the FOR FURTHER INFORMATION CONTACT section below.

FOR FURTHER INFORMATION CONTACT: For additional information, send an e-mail to Cathy.Williams@fcc.gov or call Cathy Williams on (202) 418-2918.

SUPPLEMENTARY INFORMATION: OMB Control No.: 3060-0405.

OMB Approval Date: 4/19/2010.

Expiration Date: 4/30/2013.

Title: Application for Authority to Construct or Make Changes in an FM Translator or FM Booster Station, FCC Form 349.

Form No.: FCC Form 349.

Type of Review: Reinstatement without change of a previously approved collection.

Number of Respondents/Responses: 1,200 respondents; 2,400 responses.

Estimated Time per Response: 1 to 1.5 hours.

Total Annual Burden: 4,500 hours.

Total Annual Cost: $4,598,100.

Obligation to Respond: Required to obtain benefits. Statutory authority for this collection of information is contained in Sections 154(i), 303, and 308 of the Communications Act of 1934, as amended.

Nature and Extent of Confidentiality: No need for confidentiality required with this information collection.

Needs and Uses: The Commission requested and received from the Office of Management and Budget (OMB) the reinstatement of OMB control number 3060-0405.

In 2008, we merged the requirements that were previously under this OMB control number into an existing information collection, OMB control number 3060-0029, Application for TV Broadcast Station License, FCC Form 302-TV. Although the requirements were merged under the supporting statement, the forms themselves remained separate and only shared the same OMB control number. Since that time, we find that the merging of these requirements under one OMB control number is ineffective, causing delays in submissions to OMB for review, especially when the various requirements were revised by multiple and simultaneously adopted Commission actions.

FCC Form 349 is used to apply for authority to construct a new FM translator or FM booster broadcast station, or to make changes in the existing facilities of such stations.

Form 349's Newspaper Notice (third party disclosure) requirement; 47 CFR 73.3580: Form 349 also contains a third party disclosure requirement, pursuant to 47 CFR 73.3580. This rule requires stations applying for a new broadcast station, or to make major changes to an existing station, to give local public notice of this filing in a newspaper of general circulation in the community in which the station is located. This local public notice must be completed within 30 days of the tendering of the application. This notice must be published at least twice a week for two consecutive weeks in a three-week period. In addition, a copy of this notice must be placed in the station's public inspection file along with the application, pursuant to 47 CFR 73.3527. This recordkeeping information collection requirement is contained in OMB Control No. 3060-0214, which covers 47 CFR 73.3527.

OMB Control No.: 3060-0837.

OMB Approval Date: 4/19/2010.

Expiration Date: 4/30/2013.

Title: Application for DTV Broadcast Station License, FCC Form 302-DTV.

Form No.: FCC Form 302-DTV.

Type of Review: Reinstatement without change of a previously approved collection.

Number of Respondents/Responses: 300 respondents; 300 responses.

Estimated Time per Response: 2 hours.

Total Annual Burden: 600 hours.

Total Annual Cost: $133,800.

Obligation to Respond: Required to obtain or retain benefits. Statutory authority for this collection of information is contained in Sections 154(i), 303, and 308 of the Communications Act of 1934, as amended.

Nature and Extent of Confidentiality: No need for confidentiality required with this information collection.

Needs and Uses: The Commission requested and received from the Office of Management and Budget (OMB) the reinstatement of OMB control number 3060-0837. In 2008, we merged the requirements that were previously under this OMB control number into an existing information collection, OMB control number 3060-0029, Application for TV Broadcast Station License, FCC Form 302-TV. Although the requirements were merged under the supporting statement, the forms themselves remained separate and only shared the same OMB control number. Since that time, we find the merging of these requirements under one OMB control number as ineffective causing delays for submission to OMB for review especially when the various requirements were revised by multiple Commission actions.

Form 302-DTV is used by licensees and permittees of Digital TV (“DTV”) broadcast stations to obtain a new or modified station license and/or to notify the Commission of certain changes in the licensed facilities of those stations. It may be used: (1) To cover an authorized construction permit (or auxiliary antenna), provided that the facilities have been constructed in compliance with the provisions and conditions specified on the construction permit; or (2) to implement modifications to existing licenses as permitted by Section 73.1675(c) or 73.1690(c) of the Commission's rules.

Federal Communications Commission.
Marlene H. Dortch,
Secretary, Office of the Secretary, Office of Managing Director.

[FR Doc. 2010-10410 Filed 5-3-10; 8:45 am]

BILLING CODE 6712-01-P